DEPARTMENT OF THE INTERIOR

Bureau of Land Management

[ID-075-03-1330-EO]

Notice of Availability of Supplemental Mine and Reclamation Plan, North Rasmussen Ridge Mine, Final Environmental Impact Statement, Caribou County, ID

AGENCY: Bureau of Land Management, Interior.

ACTION: Notice of availability of Final Environmental Impact Statement (FEIS).

SUMMARY: Pursuant to Council on Environmental Quality regulations and Bureau of Land Management policy, this notice announces the publication of the Final Environmental Impact Statement for the Supplemental Mine and Reclamation Plan for the North Rasmussen Ridge phosphate mine, Caribou County, Idaho.

In accordance with the National Environmental Policy Act 102(2)(C) of 1969, the environmental impact statement was prepared to assess the impacts of implementing the Supplemental Mine and Reclamation Plan, and to disclose those impacts to the public and the lead agency decision-maker.

The environmental impact statement analyzes the potential impacts related to the expansion of mining at Agrium's North Rasmussen Ridge Mine in southeast Idaho. The Proposed Action includes developing two mine pits and a haul road. Use of existing support and transportation systems would continue. Existing operations at the Central Rasmussen Ridge Mine were approved in a 1997 Record of Decision. This environmental analysis reviews potential impacts from selenium and updates the previous impact analyses for other resources. Alternatives to the Proposed Action are also analyzed and site-specific mitigation measures developed. The agency Preferred Alternative is the Proposed Action because it disturbs the least acreage of the action alternatives and all waste material is backfilled to the pits.

DATES: A 30-day availability period will start when the Environmental Protection Agency publishes its notice of availability and filing of the FEIS in the Federal Register. The public can comment on the FEIS during that 30-day period. Upon completion of the 30-day availability period, the BLM will consider the comments received on the FEIS and then will issue a Record of Decision (ROD).

FOR FURTHER INFORMATION CONTACT: To request a copy of the document, please call (208) 478-6353, or write or e-mail Mr. Wendell Johnson, BLM Pocatello Field Office, 1111 North 8th Avenue, Pocatello, Idaho 83201, or e-mail ID_NRasmussen_EIS@blm.gov.

SUPPLEMENTARY INFORMATION: A Notice of Intent to prepare an Environmental Impact Statement was published in the Federal Register on May 18, 2001. A Notice of Availability of the Draft Environmental Impact Statement (DEIS) was published in the Federal Register on March 7, 2003. In addition to the Proposed Action (the Agencies Preferred Alternative) of continuing mining along the strike of the ore while backfilling previously mined-out pits, two additional alternatives are being considered—Alternative 1 is similar to the proposed alternative, but includes impermeable capped backfilled wastes—Alternative 2 is described as the No-Action Alternative and would not allow mineral extraction to occur on the approved leases. Two additional alternatives were identified and considered in comments received on the DEIS—the first additional alternative suggested in the comments included a redesign of the partially backfilled pit bottom to allow water to drain to one end of an impermeable layer lined pit. The water collected within the pit could then be pumped to adjacent wetlands. The second alternative identified from comments in the DEIS was to mine and transport ore from Utah to supply Agrium's fertilizer plant in Idaho. The FEIS is published in an abbreviated format that responds to comments received on the DEIS.

Phil Damon,
Field Office Manager.

[FR Doc. 03-19204 Filed 7-31-03; 8:45 am]

BILLING CODE 4310-GG-P